FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

Service Galopando Corp., 3190 South State Road 7, Bay #5, Miramar, FL 33023, Officers: Candido Montero, President (Qualifying Individual), Jorge A. Montero, Vice President.

Cargo Alliance Logistics Inc., 182-30 150th Rd., Suite 128, Jamaica, NY 11413, Officer: Ming Wu, President (Qualifying Individual).

Non-Vessel-Operating Common Carrier and Ocean Freight Forwarder Transportation Intermediary Applicant:

Rodrimar Int'l Freight, Inc., 10832 NW 27th Street, Doral, FL 33172, Officers: Jeanete T. Essu, Corporate Officer (Qualifying Individual), Luis Gustavo Avesant-Moura, President.

Dated: July 6, 2007.
Bryant L. VanBrakle,
Secretary.

[FR Doc. E7-13422 Filed 7-10-07; 8:45 am]

BILLING CODE 6730-01-P